DEPARTMENT OF THE INTERIOR

Fish and Wildlife Service

50 CFR Part 17

[Docket No. FWS-R1-ES-2009-0010; MO 92210-0-0009-B4]

RIN 1018-AV87

Endangered and Threatened Wildlife and Plants; Designation of Critical Habitat for Oregon Chub (Oregonichthys crameri); Correction

AGENCY: Fish and Wildlife Service, Interior.

ACTION: Final rule; correction.

SUMMARY: We, the U.S. Fish and Wildlife Service (Service), published a final rule to designate critical habitat for the Oregon chub (Oregonichthys crameri) under the Endangered Species Act of 1973, as amended (Act), on March 10, 2010. We are publishing several corrections to that final rule in this document.

DATES: This rule is effective April 9, 2010.

ADDRESSES: Our final rule and associated documentation are available at http://regulations.gov at Docket No. FWS-R1-ES-2009-0010 and, by appointment, during normal business hours, at the U.S. Fish and Wildlife Service, Oregon Fish and Wildlife Office, 2600 SE. 98th Ave., Portland, OR 97266; telephone 503-231-6179; facsimile 503-231-6195.

FOR FURTHER INFORMATION CONTACT: Paul Henson, State Supervisor, U.S. Fish and Wildlife Service, Oregon Fish and Wildlife Office (see ADDRESSES). If you use a telecommunications device for the deaf (TDD), call the Federal Information Relay Service (FIRS) at 800-877-8339.

SUPPLEMENTARY INFORMATION:

Background

Our March 10, 2010, final rule (75 FR 11010) to designate critical habitat for the Oregon chub contained typographical errors in the preamble and the regulatory text, which we explain and correct in this document. For the complete final rule as published, see our March 10, 2010, publication (75 FR 11010). For a more complete discussion of the ecology and life history of the species, please see our March 10, 2009, proposed rule (74 FR 10412), and the Oregon Chub 5-year Review Summary and Evaluation of February 11, 2008, which is available at http://ecos.fws.gov/docs/five_year_review/doc1859.pdf.

Because of coding errors in our March 10, 2010, final rule (75 FR 11010), temperatures and numbers for “maximum water depth” and “average water depth” were rendered incorrect or impossible to read in several places. We correct them in this document.

Administrative Procedure Act

We find good cause to waive notice and comment on this correction, under 5 U.S.C. 533(b)(3)(B), and the 30-day delay in effective date under 5 U.S.C. 553(d). Notice and comment are unnecessary because this correction is a minor, technical correction. The substance of the regulations remains unchanged. Therefore, this correction is being published as a final rule and is effective on the date under DATES.

Corrections to Preamble

The second sentence in the first paragraph under the heading “Distribution and Habitat” (near top of page 11011, first column) is revised to read as follows:

The species' aquatic habitat is typically at depths of less than or equal to 2 meters (m) (6.6 feet (ft)), and has a summer subsurface water temperature exceeding 15 °Celsius (°C) (61 °Fahrenheit (°F)) (Scheerer and Apke 1997, p. 45; Scheerer 2002, p. 1073; Scheerer and McDonald 2003, p. 69).

The second paragraph under the heading “Food, Water, Air, Light, Minerals, or Other Requirements” (page 11016, third column) is revised to read as follows:

With respect to water quality, the temperature regime at a site may determine the productivity of Oregon chub at that location. Spawning activity for the species has been observed from May through early August when subsurface water temperatures exceed 15 °C (59 °F) or 16 °C (61 °F) (Scheerer and Apke 1997, p. 22; Markle et al. 1991, p. 288; Scheerer and MacDonald 2003, p. 78). The species will display normal life-history behavior at temperatures between approximately 15 and 25 °C (59 and 77 °F). The upper lethal temperature for the fish was determined to be 31 °C (88 °F) in laboratory studies (Scheerer and Apke 1997, p. 22).

The third sentence in the first paragraph under the heading “Sites for Breeding, Reproduction, and Rearing (or Development) of Offspring” (page 11017, center column) is revised to read as follows:

Oregon chub spawn from April through September, when temperatures exceed 15 °C (59 °F), with peak activity in July.

Under the header “Primary Constituent Elements (PCEs) for the Oregon Chub,” number 3 in the list (page 11018, center column) is revised to read as follows:

3. Late spring and summer subsurface water temperatures between 15 and 25 °C (59 and 78 °F), with natural diurnal and seasonal variation.

Under the header “Final Critical Habitat Designation,” we make the following corrections to the text of each of the individual units:

BILLING CODE 4310-55-P

BILLING CODE 4310-55-C

Correction to Regulatory Text

In our rule FR Doc. 2010-4654, as published at March 10, 2010 (75 FR 11010), there is one error in the regulatory text.

Other than this one correction to the final rule's regulatory text, all amendatory instructions and amendatory language stand.

§ 17.95 [Corrected]

1. On page 11032, in the third column, revise § 17.95 under paragraph (e), under the entry for “Oregon Chub (Oregonichthys crameri)”, paragraph (2)(iii), to read as follows:

(iii) Late spring and summer subsurface water temperatures between 15 and 25 °C (59 and 78 °F), with natural diurnal and seasonal variation.

Dated: April 2, 2010.
Sara Prigan,
Federal Register Liaison, U.S. Fish and Wildlife Service.

[FR Doc. 2010-7951 Filed 4-8-10; 8:45 am]

BILLING CODE 4310-55-P